FEDERAL COMMUNICATIONS COMMISSION

Public Information Collections Approved by Office of Management and Budget

December 14, 2000.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-0853.

Expiration Date: 12/31/2003.

Title: Receipt of Service Confirmation Form and Adjustment of Funding Commitment and Modification to Receipt of Service Confirmation Form—Universal Service for Schools and Libraries.

Form No.: FCC Form 486 and FCC Form 500.

Respondents: Business or other for-profit; Not-for-profit institutions.

Estimated Annual Burden: 40,000 respondents; 1.5 hours per response (avg.); 45,000 total annual burden hours.

Estimated Annual Reporting and Recordkeeping Cost Burden: $0.

Frequency of Response: On occasion.

Description: The Commission adopted rules providing support for all telecommunications services, Internet access, and internal connections for all eligible schools and libraries. To participate in the program schools and libraries must confirm that they are actually receiving the services eligible for support via FCC Form 486. The purpose of FCC Form 486 is to ensure that services are actually being provided and that a billing relationship exists between the service provider and applicant. Failure to file a Form 486 means that no payments may be made to a service provider (or for an applicant reimbursement, which is passed through the service provider) on the particular Funding Request Number. (No. of respondents: 30,000; hours per response: 1 hour; total annual burden: 30,000). FCC Form 500 is used to adjust funding commitments and/or modify the dates for receipt of services. Only some applicants will avail themselves of the Form 500. It is available for applicants who wish to keep their information current or who wish to return funds to the Universal Service Fund. (No. of respondents: 10,000; hours per response: 1.5 hours; total annual burden: 15,000 hours). Copies of the forms are available via the Internet at www.sl.universalservice.org. Obligation to respond: Required to obtain or retain benefits.

OMB Control No.: 3060-0711.

Expiration Date: 12/31/2003.

Title: Implementation of Section 34(a)(1) of the Public Utility Holding Company Act of 1935, as amended by the Telecommunications Act of 1996 (47 CFR Sections 1.5001-1.5007).

Form No.: N/A.

Respondents: Business or other for-profit.

Estimated Annual Burden: 15 respondents; 10 hours per response (avg.); 150 total annual burden hours.

Estimated Annual Reporting and Recordkeeping Cost Burden: $48,000.

Frequency of Response: On occasion.

Description: 47 CFR 1.5001-1.5007 implement section 34(a) of the Public Utility Holding Company Act. The rules provide filing requirements and procedures to expedite public utility holding company entry into the telecommunications industry. Persons seeking a determination of exempt telecommunications company (ETC) status must file in good faith for a determination by the Commission. Applicants are required to file, among other things, with the Commission a brief description of their planned activities, and a sworn statement attesting to any facts presented to demonstrate eligibility for ETC status and attesting to any representation otherwise offered to demonstrate eligibility for ETC status. Applicants are required to submit sworn statements certifying that they complied with part 1, subpart P of the Commission's regulations. Finally, applicants are also required to serve copies of their application with the SEC and affected state commissions. The applicants must notify the Commission of material change in facts within 30 days of the change in fact. The information will be used by the Commission to determine whether persons satisfy the statutory criteria for exempt telecommunications company status. Obligation to respond: Required to obtain or retain benefits.

Public reporting burden for the collection of information is as noted above. Send comments regarding the burden estimate or any other aspect of the collections of information, including suggestions for reducing the burden to Performance Evaluation and Records Management, Washington, DC 20554.

Federal Communications Commission.
Magalie Roman Salas,
Secretary.

[FR Doc. 00-32468 Filed 12-20-00; 8:45 am]

BILLING CODE 6712-01-U